DEPARTMENT OF THE INTERIOR

National Park Service

[NPS-WASO-NAGPRA-NPS0039483; PPWOCRADN0-PCU00RP14.R50000]

Notice of Inventory Completion: The University of Tennessee, Department of Anthropology, Knoxville, TN, and Kansas State Historical Society, Topeka, KS

AGENCY: National Park Service, Interior.

ACTION: Notice.

SUMMARY: In accordance with the Native American Graves Protection and Repatriation Act (NAGPRA), The University of Tennessee, Department of Anthropology (UTK) and the Kansas State Historical Society (KSHS) have completed an inventory of human remains and associated funerary objects and has determined that there is a cultural affiliation between the human remains and associated funerary objects and Indian Tribes or Native Hawaiian organizations in this notice.

DATES: Repatriation of the human remains and associated funerary objects in this notice may occur on or after April 17, 2025.

ADDRESSES: Dr. Ellen Lofaro, University of Tennessee, Office of Repatriation, 5723 Middlebrook Pike, Knoxville, TN 37921-6053, telephone (865) 974-3370, email nagpra@utk.edu, and Dr. Nicole Klarmann, Kansas State Historical Society, 6425 SW 6th Ave., Topeka, KS 66615, telephone (785) 272-8681, email kshs.nagpra@ks.gov.

SUPPLEMENTARY INFORMATION: This notice is published as part of the National Park Service's administrative responsibilities under NAGPRA. The determinations in this notice are the sole responsibility of UTK and KSHS, and additional information on the determinations in this notice, including the results of consultation, can be found in the inventory or related records. The National Park Service is not responsible for the determinations in this notice.

Abstract of Information Available

Human remains representing, at least, four individuals have been identified. The 66 associated funerary objects include animal bones, a bone tool, a hearthstone fragment, metal, pottery sherds, points, worked stone, stone flakes, and a glass fragment, as well as two lots of faunal remains, one lot of lithics, and one lot of soil. This burial site (14MD401) is located in Meade County, KS along a bluff on the south side of Crooked Creek (UBS 1989-38). The burials were excavated in the 1960s by William Bass, Leon Deckert, and local individuals who initially found remains naturally eroding in the area. Bass kept some of the remains from this site and also gave some of the remains to Deckert, who later donated the remains to KSHS in 1988. Based on a past pattern of practice, Bass likely brought some of the remains and associated funerary objects to UTK when he began working there in 1971. To our knowledge, no known hazardous substances were used to treat any of the remains or associated funerary objects.

Through Tribal consultation, this individual was identified as culturally affiliated with the Cheyenne and Arapaho Tribes, Oklahoma, based off the following types of information: expert opinion, geographical information, historical information, and oral tradition.

Cultural Affiliation

Based on the information available and the results of consultation, cultural affiliation is clearly identified by the information available about the human remains and associated funerary objects described in this notice.

Determinations

KSHS and UTK have determined that:

• The human remains described in this notice represent the physical remains of four individuals of Native American ancestry.

• The 66 objects described in this notice are reasonably believed to have been placed intentionally with or near individual human remains at the time of death or later as part of the death rite or ceremony.

• There is a reasonable connection between the human remains and associated funerary objects described in this notice and the Cheyenne and Arapaho Tribes, Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 17, 2025. If competing requests for repatriation are received, UTK and KSHS must determine the most appropriate requestor prior to repatriation. Requests for joint repatriation of the human remains and associated funerary objects are considered a single request and not competing requests. UTK and KSHS are responsible for sending a copy of this notice to the Indian Tribes and Native Hawaiian organizations identified in this notice.

Authority: Native American Graves Protection and Repatriation Act, 25 U.S.C. 3003, and the implementing regulations, 43 CFR 10.10.

Dated: February 4, 2025.
Melanie O'Brien,
Manager, National NAGPRA Program.

[FR Doc. 2025-04370 Filed 3-17-25; 8:45 am]

BILLING CODE 4312-52-P